DEPARTMENT OF ENERGY

Federal Energy Regulatory Commission

[Docket Nos. PR04-15-000, PR04-16-000, PR02-10-005]

Enogex Inc.; Notice of Technical Conference

January 4, 2005.

Take notice that a technical conference in the above captioned proceedings will be held on Thursday, January 13, 2005 at 9:30 a.m. (e.s.t.), in a room to be designated at the Federal Energy Regulatory Commission, 888 First Street NE., Washington, DC 20426.

The technical conference will deal with issues raised in the referenced proceedings (Docket Nos. PR04-15-000, PR04-16-000, PR02-10-005). These include, but are not limited to: the fairness and equitableness of Enogex's new priority procedure for interruptible transportation; the classification of costs between gathering and transmission; and a range of other cost of service issues associated with Enogex's three year general rate filing.

FERC conferences are accessible under section 508 of the Rehabilitation Act of 1973. For accessibility accommodations please send an e-mail to accessibility@ferc.gov or call toll free (866) 208-3372 (voice) or 202-208-01659 (TTY), or send a FAX to 202-208-2106 with the required accommodations.

All interested parties and staff are permitted to attend.

Magalie R. Salas,
Secretary.

[FR Doc. E5-51 Filed 1-10-05; 8:45 am]

BILLING CODE 6717-01-P